INTERNATIONAL TRADE COMMISSION

[Investigation No. 337-TA-802]

Certain Light-Emitting Diodes and Products Containing Same; Commission Determination Not To Review an Initial Determination Granting a Joint Motion To Terminate the Investigation; Termination of Investigation

AGENCY: U.S. International Trade Commission.

ACTION: Notice.

SUMMARY: Notice is hereby given that the U.S. International Trade Commission has determined not to review an ID (Order No. 30) of the administrative law judge (“ALJ”) granting a joint motion to terminate the investigation. The investigation is hereby terminated.

FOR FURTHER INFORMATION CONTACT: James A. Worth, Office of the General Counsel, U.S. International Trade Commission, 500 E Street SW., Washington, DC 20436, telephone (202) 205-3065. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on August 31, 2011, based on a complaint filed with the U.S. International Trade Commission on July 27, 2011, under section 337 of the Tariff Act of 1930, as amended, 19 U.S.C. 1337, on behalf of LG Electronics, Inc. of Korea and LG Innotek Co., Ltd. of Korea (collectively, “LG”). 76 FR 54254 (August 31, 2011). The complaint alleged violations of section 337 in the sale for importation, importation, or sale after importation into the United States of certain light-emitting diodes and products containing same that infringe one or more claims of U.S. Patent Nos. 7,928,465; 7,956,364; 6,841,802; 7,649,210; 7,884,388; 7,821,024; 7,868,348; and 7,768,025. The notice of investigation named as respondents OSRAM GmbH of Munich, Germany; OSRAM Sylvania Inc. of Danvers, MA; and OSRAM Opto Semiconductors GmbH of Regensburg, Germany.

On October 27, 2011, the Commission issued notice of its determination not to review an ID granting a motion inter alia (a) to correct the name of OSRAM GmbH, which recently changed its name to OSRAM AG and (b) to add as respondents Hella KgaA Hueck & Co., Hella Electronics Corp., Hella Corporate Center USA, Hella, Inc., Automotive Lighting Reutlingen GmbH, Automotive Lighting LLC, Tecnologia de Iluminacion Automotriz S.A. de C.V., and OSRAM Opto Semiconductors Inc.

On November 2, 2012, LG and respondents OSRAM AG, OSRAM Sylvania Inc., OSRAM Opto Semiconductors GmbH, OSRAM Opto Semiconductors, Inc., Hella KGaA Hueck & Co., Hella Electronics Corp., Hella Corporate Center USA, Inc., Hella, Inc., Automotive Lighting Reutlingen GmbH, Automotive Lighting, LLC, and Tecnologia de Iluminacion Automotriz S.A. de C.V. filed a joint motion to terminate the investigation in its entirety based upon a settlement agreement and to stay the investigation.

On November 13, 2012, the ALJ issued Order No. 30, granting the motion to terminate the investigation and denying as moot the motion to stay the investigation. The ALJ found that termination of the investigation in its entirety does not impose any undue burdens on the public health and welfare, competitive conditions in the United States economy, the production of like or directly competitive articles in the United States, and United States consumers. No petitions for review were filed.

Only that part of the order granting the motion to terminate the investigation constitutes an ID. Having considered the ID and the relevant portions of the record, the Commission has determined not to review the subject ID.

This action is taken under the authority of section 337 of the Tariff Act of 1930, as amended (19 U.S.C. 1337), and of section 210.42(h) of the Commission's Rules of Practice and Procedure (19 CFR 210.42(h)).

Issued: December 13, 2012.
By order of the Commission.
Lisa R. Barton,
Acting Secretary to the Commission.

[FR Doc. 2012-30446 Filed 12-18-12; 8:45 am]

BILLING CODE 7020-02-P